DEPARTMENT OF TRANSPORTATION

Federal Aviation Administration

Office of Commercial Space Transportation (AST); Notice of Availability of the Supplemental Environmental Assessment (SEA) and Finding of No Significant Impact (FONSI) for the Federal Aviation Administration (FAA)/AST To Renew Launch Site Operator License (LSO 01-005) to Spaceport Systems International (SSI) for the Continued Operation of the California Spaceport at Vandenberg Air Force Base (VAFB), CA

AGENCY: Federal Aviation Administration, Department of Transportation.

ACTION: Notice of Availability of SEA and FONSI.

SUMMARY: In accordance with the National Environmental Policy Act (NEPA) of 1969, 42 United States Code 4321-4347 (as amended), Council on Environmental Quality (CEQ) NEPA implementing regulations (40 Code of Federal Regulations [CFR] parts 1500-1508), and FAA Order 1050.1E, Change 1, the FAA is announcing the availability of a SEA and FONSI for the FAA/AST to renew Launch Site Operator License (LSO-01-005) to SSI for the continued operation of the California Spaceport at VAFB, California. The SEA supplements the U.S. Air Force February 1995 EA for the California Spaceport (1995 EA) and was prepared to address the potential environmental impacts of the FAA/AST's Proposed Action to renew SSI's Launch Site Operator License for the continued operation of the California Spaceport. The Launch Site Operator License would be valid for 5 years. The 1995 EA analyzed the potential environmental impacts of construction and operation of a commercial launch facility (which is now the California Spaceport) at VAFB, California.

Activities addressed in the SEA include launches of a variety of vertically-launched launch vehicles (Minuteman and Castor 120 derivative boosters) at the California Spaceport over the 5-year term of the license. Since 1996 when FAA issued SSI its first Launch Site Operator License, SSI has supported eight commercial launches. Although the terms of the license do not specify the number of launches allowed, FAA selected a conservative value of up to 15 launches per year has been considered for the purposes of the SEA's environmental analysis. The largest launch vehicle proposed to launch from the California Spaceport is the Athena III, consisting of a two-stage Castor 120 solid-propellant rocket motor with the addition of up to six Castor IVA or Castor IVXL rocket motors strapped to the first stage.

The 1995 EA analyzed the potential environmental impacts of construction and operation of a commercial launch facility (which is now the California Spaceport) at VAFB, California. The analysis considered operation of variety of vertical launch vehicles, including the Athena III. The proposed activities at the California Spaceport remain consistent with those analyzed in the 1995 EA and are incorporated by reference in the SEA. The SEA summarizes the data and environmental analysis presented in the 1995 EA where the data and analysis remains substantially valid. In addition, the SEA provides new data and analysis where information presented in the 1995 EA is outdated.

The resource areas considered in the SEA include air quality; biological resources (fish, wildlife, and plants); noise; land use (including coastal resources); historical, architectural, archaeological, and cultural resources; Department of Transportation Section 4(f) Properties; geology and soils; hazardous materials, pollution prevention, and solid waste; health and safety; socioeconomics, environmental justice, and children's environmental health and safety; and water quality (including floodplains and wetlands). Potential cumulative impacts of the Proposed Action were also addressed in the SEA. Alternatives analyzed in the SEA included the Proposed Action and the No Action Alternative. Under the No Action Alternative, the FAA would not renew the Launch Site Operator License to SSI for continued operation of the California Spaceport at VAFB. Existing USAF activities would continue at VAFB.

After careful and thorough consideration of available data and information on existing conditions and potential impacts, the FAA has determined that there will be no significant short-term, long-term, or cumulative impacts to the environment or surrounding populations from the renewal of the Launch Site Operator License for continued operations of the California Spaceport at VAFB. The Proposed Action is consistent with existing national environmental policies and objectives as set forth in Section 101 of NEPA and other applicable environmental requirements and will not significantly affect the quality of the human environment within the meaning of NEPA. Therefore, an Environmental Impact Statement for the Proposed Action is not required and the FAA issued a FONSI.

The FAA has posted the SEA and FONSI on the Internet at http://www.faa.gov/about/office_org/headquarters_offices/ast/.

FOR FURTHER INFORMATION CONTACT: Mr. Daniel Czelusniak, Environmental Program Lead, Office of Commercial Space Transportation, Federal Aviation Administration, 800 Independence Avenue, SW., Room 325, Washington, DC 20591, telephone (202) 267-5924; E-mail: daniel.czelusniak@faa.gov.

Issued in Washington, DC on: September 7, 2011.
Michael McElligott,
Manager, Space Transportation Development Division.

[FR Doc. 2011-23694 Filed 9-14-11; 8:45 am]

BILLING CODE 4910-13-P